DEPARTMENT OF HEALTH AND HUMAN SERVICES

Food and Drug Administration

21 CFR Parts 172 and 182

[Docket Nos. FDA-2013-F-0700 and FDA-2013-P-0472]

Richard C. Theuer; Withdrawal of Food Additive Petition and Citizen Petition

AGENCY: Food and Drug Administration, HHS.

ACTION: Withdrawal of petitions.

SUMMARY: The Food and Drug Administration (FDA or we) is announcing the withdrawal, without prejudice to a future filing, of a food additive petition (FAP 3A4798) proposing that the food additive regulations be amended to prohibit the use of carrageenan and salts of carrageenan in infant formula. In addition, FDA is also announcing the withdrawal of a citizen petition requesting that the generally recognized as safe (GRAS) regulations be amended to prohibit the use of Chondrus extract (carrageenin) in infant formula.

DATES: The food additive petition and the citizen petition were withdrawn on July 30, 2014.

FOR FURTHER INFORMATION CONTACT: Molly A. Harry, Center for Food Safety and Applied Nutrition (HFS-265), Food and Drug Administration, 5100 Paint Branch Pkwy., College Park, MD 20740-3835, 240-402-1075.

SUPPLEMENTARY INFORMATION: In a notice published in the Federal Register of July 19, 2013 (78 FR 43093), we announced that we had filed a food additive petition (FAP 3A4798; Docket No. FDA-2013-F-0700), submitted by Richard C. Theuer, Ph.D., 7904 Sutterton Ct., Raleigh, NC 27615. The petition proposed to amend the food additive regulations in § 172.620 and 172.626 (21 CFR172.620 and 172.626) to prohibit the use of carrageenan and salts of carrageenan in infant formula. In addition, we also announced in the same document (78 FR 43093), that Dr. Theuer submitted a citizen petition, under 21 CFR 10.30, requesting that 21 CFR 182.7255 of the GRAS regulations be amended to prohibit the use of Chondrus extract (carrageenin) in infant formula (Docket No. FDA-2013-P-0472). Dr. Theuer has now withdrawn the petitions without prejudice to future filings (21 CFR 171.7 and 10.30(g)).

Dated: August 26, 2014.
Dennis M. Keefe,
Director, Office of Food Additive Safety, Center for Food Safety and Applied Nutrition.

[FR Doc. 2014-20665 Filed 8-29-14; 8:45 am]

BILLING CODE 4164-01-P